DEPARTMENT OF TRANSPORTATION

Federal Aviation Administration

14 CFR Part 39

[Docket No. FAA-2009-1215; Directorate Identifier 2009-NM-126-AD; Amendment 39-16364; AD 2010-14-19]

RIN 2120-AA64

Airworthiness Directives; Airbus Model A330-200 and -300 Series Airplanes, and Model A340-200, -300, -500 and -600 Series Airplanes

AGENCY: Federal Aviation Administration (FAA), Department of Transportation (DOT).

ACTION: Final rule; correction.

SUMMARY: The FAA is correcting airworthiness directive (AD) 2010-14-19, which published in the Federal Register on July 13, 2010. That AD applies to certain Model A330-200 and -300 series airplanes, and Model A340-200, -300, -500 and -600 series airplanes. A certain service bulletin number in Note 3 of the regulatory section is incorrect. This document corrects that service bulletin number. In all other respects, the original document remains the same.

DATES: This correction is effective August 5, 2010. The effective date of AD 2010-14-19 remains August 17, 2010.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION: On June 29, 2010, the FAA issued AD 2010-14-19, Amendment 39-16364 (75 FR 39814, July 13, 2010), for certain Airbus Model A330-200 and -300 series airplanes, and Model A340-200, -300, -500 and -600 series airplanes. The AD requires replacing or modifying the Halon dual-filter assemblies of the flow metering fire extinguishing system in the forward and bulk cargo compartments, as applicable.

As published, Note 3 of the AD specifies in error Airbus Service Bulletin A340-26-4038. The correct service bulletin is Airbus Service Bulletin A340-26-4030.

No other part of the regulatory information has been changed; therefore, the final rule is not republished in the Federal Register.

The effective date of this AD remains August 17, 2010.

§ 39.13 [Corrected]

In the Federal Register of July 13, 2010, on page 39817, in the second and third columns, Note 3 of AD 2010-14-19 is corrected to read as follows:

* * * * *

Note 3: The Halon dual-filter assembly P/N QA06753 is embodied in production through Airbus modification 40041. The Halon dual-filter assembly P/N QA06753-01 is only embodied in service through Airbus Service Bulletin A330-26-3030 or Airbus Service Bulletin A340-26-4030. The Halon dual-filter assembly P/N QA06753-02 is embodied in production through modification 47197 or 47883 or 50108 (BCRC) and 51065 or 51329 (LDCC) or in service through Airbus Service Bulletin A330-26-3030 or Airbus Service Bulletin A340-26-4030.

* * * * *

Issued in Renton, Washington, on July 27, 2010.
Ali Bahrami,
Manager, Transport Airplane Directorate, Aircraft Certification Service.

[FR Doc. 2010-19151 Filed 8-4-10; 8:45 am]

BILLING CODE 4910-13-P